DEPARTMENT OF ENERGY

Federal Energy Regulatory Commission

[Project No. 5737-007]

Santa Clara Valley Water District; Notice of Availability of Supplemental Environmental Assessment

In accordance with the National Environmental Policy Act of 1969 and the Federal Energy Regulatory Commission's (Commission) regulations, 18 CFR part 380 (Order No. 486, 52 FR 47897), the Office of Energy Projects has reviewed an application submitted by Santa Clara Valley Water District for the Anderson Dam Project No. 5737, to draw down the Anderson Reservoir, construct and operate a new low-level outlet tunnel, and implement downstream measures. Anderson Dam is located on Coyote Creek in Santa Clara County, California.

A supplemental environmental assessment (EA) has been prepared as part of Commission staff's review of the proposal.¹ The supplemental EA includes additional analysis to supplement staff's October 1, 2020 EA for the reservoir drawdown. The supplemental EA contains Commission staff's analysis of the probable environmental effects of the proposed action and concludes that approval of the proposal, with appropriate environmental protective measures, would not constitute a major federal action significantly affecting the quality of the human environment.

¹ On July 16, 2020, the Council on Environmental Quality (CEQ) issued a final rule, Update to the Regulations Implementing the Procedural Provisions of the National Environmental Policy Act (Final Rule, 85 FR 43,304), which was effective as of September 14, 2020; however, the NEPA review of this project was in process at that time and was prepared pursuant to CEQ's 1978 NEPA regulations.

The supplemental EA may be viewed on the Commission's website at http://www.ferc.gov using the “elibrary” link. Enter the docket number (P-5737) in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at 1-866-208-3372, or for TTY, (202) 502-8659.

Dated: February 2, 2021.
Kimberly D. Bose,
Secretary.

[FR Doc. 2021-02498 Filed 2-5-21; 8:45 am]

BILLING CODE 6717-01-P